NUCLEAR REGULATORY COMMISSION

Public Meetings on Issues Associated With the Licensing Process for a Possible High-Level Waste Repository at Yucca Mountain, Nevada; Overview of NRC's Formal Hearing Process

AGENCY: Nuclear Regulatory Commission.

ACTION: Notice of public meetings in Pahrump, Nevada and Las Vegas, Nevada.

SUMMARY: In response to public requests, the U.S. Nuclear Regulatory Commission (NRC) staff will continue its series of public meetings on the high-level waste repository licensing process. The next meetings are intended to foster an understanding of the hearing process that the NRC would use to decide whether to issue a construction authorization for a possible repository at Yucca Mountain, Nevada, if the U.S. Department of Energy (DOE) were to submit a license application to the NRC. On April 15, 2001, the Commission announced its intent to retain a formal hearing process for evaluating a potential license application for a geologic repository. Both meetings will be facilitated by Francis X. Cameron, Special Counsel for Public Liaison, of the NRC Office of the General Counsel.

Two meetings on this topic will be conducted to acquaint the public with the NRC's high-level waste hearing process. They will begin with an overview of the events that would have to take place before NRC would initiate a formal hearing, a general review of the NRC's licensing role, and a general description of the NRC's formal hearing process. These presentations will be followed by a question and answer period. In addition, members of the NRC staff will be available for informal discussion with members of the public. The time, date, and location of the Public Meetings are shown below.

Time/Date: Tuesday, May 22, 2001, from 6:30 p.m. to 9 p.m. (Pacific time).

Place: Mountain View Casino and Bowl, 1750 Pahrump Valley Boulevard, Pahrump, Nevada 89048.

Time/Date: Wednesday, May 23, 2001, from 1 p.m. to 4 p.m. (Pacific time).

Place: Regional Transportation Commission Building (Next to Clark County Government Center) Room 108, 600 South Grand Central Parkway, Las Vegas, Nevada 89155.

FOR FURTHER INFORMATION CONTACT: Francis X. Cameron, Special Counsel for Public Liaison, Office of the General Counsel, U.S. Nuclear Regulatory Commission, Washington, DC 20555-001, or by telephone: (301) 415-1642 or e-mail fxc@nrc.gov.

Dated at Rockville, Maryland this 8th day of May 2001.
For the Nuclear Regulatory Commission.
C. William Reamer,
Chief, High-Level Waste Branch, Division of Waste Management, Office of Nuclear Material Safety and Safeguards.

[FR Doc. 01-12038 Filed 5-11-01; 8:45 am]

BILLING CODE 7590-01-P